DEPARTMENT OF THE INTERIOR

Bureau of Land Management

[AK-025-05-1610-DP-089L]

Notice of Availability of Kobuk-Seward Peninsula Draft Resource Management Plan and Environmental Impact Statement

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Kobuk-Seward Peninsula Planning Area.

DATES: Written comments on the Draft RMP/EIS will be accepted until 90 calendar days after the date the Environmental Protection Agency (EPA) publishes its NOA in the Federal Register. The BLM will announce future meetings or hearings and any other public involvement activities at least 15 days in advance through public notices, media news releases, and/or mailings.

ADDRESSES: You may submit comments by the following methods:

• Email: ksp_comments@blm.gov.

• Mail: Bureau of Land Management, Central Yukon Field Office, ATTN: Kobuk-Seward Peninsula RMP, 1150 University Avenue, Fairbanks, AK 99709

FOR FURTHER INFORMATION CONTACT: Jeanie Cole, (907) 474-2340, jeanie_cole@ak.blm.gov or in writing to the address listed above.

SUPPLEMENTARY INFORMATION: The Kobuk-Seward Peninsula Draft Resource Management Plan/Environmental Impact Statement (RMP/EIS) covers approximately 13.1 million acres of BLM-managed land in northwestern Alaska. The Northwest Management Framework Plan (MFP), a land use plan that guides current management of the area, was completed in 1982. BLM published a Notice of Intent to prepare an RMP/EIS in the Federal Register on January 30, 2004. A 90-day formal scoping period began with the publication of that notice. Public meetings were held in nine communities, and the following primary management concerns were identified: (1) How should recreation be managed to provide and maintain a diversity of experiences on BLM-managed lands while protecting subsistence resources and opportunity, and what level of commercial recreational use is appropriate; (2) how should access trails and roads for the use of OHVs for various purposes, including recreation, commercial use, subsistence, and casual use, be managed while protecting natural and cultural resources; (3) what areas, if any, should be made available for mineral exploration and development; and (4) what areas, if any, should be recommended for special designations.

This draft RMP/EIS presents four alternatives to address the issues identified in scoping: a No Action Alternative (Alternative A), an Alternative that emphasizes resource development (Alternative B), one that emphasizes conservation (Alternative C), and the agency Preferred Alternative (Alternative D), which has elements of B and C. The No Action Alternative would continue existing management. Alternative B would emphasize resource development. Under this alternative, the entire planning area would be open to a variety of land and resource uses. Alternative C would emphasize conservation of natural resources. Under this alternative, some resource uses or activities be excluded over large areas. The Preferred Alternative calls for a balance between development and the conservation of sensitive resources; some resource uses or activities would be excluded in limited areas. The lifting of existing withdrawals may be accomplished through actions approved by the Secretary. As required by section 204(c)(2) of FLPMA, however, withdrawals of areas greater than 5,000 acres in size require the approval of Congress.

As required by 43 CFR 1610.7-2, areas with potential for designation as Areas of Critical Environmental Concern (ACECs) and protective management have been considered during the planning process. Several potential areas are considered for designation in two alternatives. Boundaries, size, and management direction within potential ACECs vary by alternative. The following tables illustrate the names and acreages of each area and provide summary descriptions of resource use limitations for Alternatives C and D.

Table 1.—Proposed ACECs Under Alternative C
Name of area | Acreage | Resource use limitations
Nulato Hills | 2 million | Closed to locatable and leasable mineral entry; Limited OHV designation, ROW avoidance area, Retain in Federal ownership, Closed to grazing, FLPMA and Recreation and Public Purposes (R&PP) Act leases not allowed.
Western Arctic Caribou Herd calving and insect relief ACEC | 2.9 million | Same as Nulato Hills.
Kigluaik ACEC | 298,000 | Same as Nulato Hills, plus: Communication site rights-of-way (ROW) limited to existing sites; Level of commercial recreational use may be limited; Closed to mineral material disposal.
McCarthy's Marsh | 131,000 | Same as Nulato Hills, plus: Closed to mineral material disposal; Level of commercial recreational use may be limited.
Kuzitrin River | 141,000 | Same as Nulato Hills.

Table 2.—ACECs and RNAs Proposed Under Alternative D (Preferred Alternative)
Name of area | Acreage | Resource use limitations
Nulato Hills ACEC | 1.1 million | Limited OHV designation; Retained in Federal ownership; Closed to grazing outside of existing allotments; ROW avoidance area; FLPMA and R&PP leases not allowed; Open to fluid mineral leasing subject to minor constraints.
Western Arctic Caribou Herd calving and insect relief ACEC | 2.9 million | Same as Nulato Hills except it would not be designated as a ROW avoidance area.
Inglutalik Watershed ACEC | 466,000 | Same as Nulato Hills except there would be a 300-foot no surface occupancy setback for leasable minerals on the mainstem river and it would not be a ROW avoidance area.
Ungalik Watershed ACEC | 264,000 | Same as the Inglutalik Watershed ACEC with the addition of: A 300-foot setback on the Ungalik River would be withdrawn from locatable mineral entry.
Shaktoolik Watershed ACEC | 234,000 | Same as the Inglutalik Watershed ACEC.
Mount Osborn RNA | 84,000 | Same as Nulato Hills except: It would be withdrawn from locatable mineral entry; Communication site ROWs would be limited to existing sites; the level of commercial recreational use may be limited; and it would be open to grazing.

Final acreage for areas designated as ACECs would also depend on the result of land conveyance to the State of Alaska and Native Corporations.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Copies of the Kobuk-Seward Peninsula Draft RMP/EIS (paper or compact disc) are available in the Fairbanks District Office at the above address; the Kotzebue Field Station, P.O. Box 1049, Kotzebue, AK 99752; the Nome Field Station, P.O. Box 925, Nome, AK 99762; the Anchorage Field Office, 6881 Abbott Loop Road, Anchorage, AK 99507; and the Alaska State Office, 222 West Seventh Avenue, Anchorage, AK 99513. The document will also be available online and may be viewed at: http://www.ak.blm.gov/ksp.

Henri R. Bisson,
State Director.

[FR Doc. E6-6774 Filed 5-4-06; 8:45 am]

BILLING CODE 4310-JA-P